NATIONAL AERONAUTICS AND SPACE ADMINSTRATION

[Notice 05-030]

NASA Aeronautical Technologies Strategic Roadmap Committee; Meeting.

AGENCY: National Aeronautics and Space Administration (NASA).

ACTION: Notice of meeting.

SUMMARY: In accordance with the Federal Advisory Committee Act, Public Law 92-463, as amended, the National Aeronautics and Space Administration announces a meeting of the NASA Aeronautical Technologies Strategic Roadmap Committee.

DATES: Monday, March 7, 2005, 8 a.m. to 5 p.m., Tuesday, March 8, 2005, 8 a.m. to 5 p.m. Central Standard Time.

ADDRESSES: Hyatt Regency on Chicago Riverwalk, 151 East Wacker Drive, Chicago, Illinois.

FOR FURTHER INFORMATION CONTACT: Yuri Gawdiak, 202-358-1853.

SUPPLEMENTARY INFORMATION: The meeting will be open to the public up to the seating capacity of the meeting room. Attendees will be requested to sign a register.

The agenda for the meeting is as follows:

—Current NASA and Joint Planning and Development Office Program Briefings

—Discussion of Solicited White Papers (NASA RFI 11/02/04; http://fellowship.hq.nasa.gov/apio/rfi.pdf).

—Committee Inquiries and Observations

—NASA Unique Aeronautical Goals & Metrics Review

—Current Road Map Reviews

It is imperative that the meeting be held on these dates to accommodate the scheduling priorities of the key participants.

Dated: February 14, 2005.
P. Diane Rausch,
Advisory Committee Management Officer, National Aeronautics and Space Administration.

[FR Doc. 05-3223 Filed 2-17-05; 8:45 am]

BILLING CODE 7510-13-P